DEPARTMENT OF TRANSPORTATION

Federal Aviation Administration

14 CFR Part 39

[Docket No. 2002-NM-336-AD]

RIN 2120-AA64

Airworthiness Directives; Empresa Brasileira de Aeronautica S.A. (EMBRAER) Model EMB-135 and -145 Series Airplanes

AGENCY: Federal Aviation Administration, DOT.

ACTION: Supplemental notice of proposed rulemaking; reopening of comment period.

SUMMARY: This document revises an earlier proposed airworthiness directive (AD), applicable to certain EMBRAER Model EMB-135 and -145 series airplanes, that would have required operators to inspect the pitot-true air temperature (TAT) relays and the full authority digital engine control (FADEC) electronic interface resistor modules to detect contamination; perform corrective action if necessary; clean the relay/connector pins and sockets; modify the seal between the cockpit console panels and the storm window; and/or install a new protective frame (protective sheets) at the cockpit relay supports. This new action revises the applicability of the proposed rule to add airplanes. The actions specified by this new proposed AD are intended to detect and correct oxidation of the pitot-TAT relay, which could result in increased resistance and overheating of the relay and consequent smoke in the cockpit; and to detect and correct oxidation of the FADEC electronic interface resistor modules, which could result in in-flight uncommanded engine power roll back to idle. This action is intended to address the identified unsafe condition.

DATES: Comments must be received by October 3, 2003.

ADDRESSES: Submit comments in triplicate to the Federal Aviation Administration (FAA), Transport Airplane Directorate, ANM-114, Attention: Rules Docket No. 2002-NM-336-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-336-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343-CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-336-AD.” The postcard will be date stamped and returned to the commenter.

Availability of NPRMs

Any person may obtain a copy of this NPRM by submitting a request to the FAA, Transport Airplane Directorate, ANM-114, Attention: Rules Docket No. 2002-NM-336-AD, 1601 Lind Avenue, SW., Renton, Washington 98055-4056.

Discussion

A proposal to amend part 39 of the Federal Aviation Regulations (14 CFR part 39) to add an airworthiness directive (AD), applicable to certain EMBRAER Model EMB-135 and -145 series airplanes, was published as a notice of proposed rulemaking (NPRM) in the Federal Register on February 28, 2003 (68 FR 9607). That NPRM (the “original NPRM”) would have required operators to inspect the pitot-true air temperature (TAT) relays and the full authority digital engine control (FADEC) electronic interface resistor modules to detect contamination; perform corrective action if necessary; clean the relay/connector pins and sockets; modify the seal between the cockpit console panels and the storm window; and/or install a new protective frame (protective sheets) at the cockpit relay supports. The original NPRM was prompted by reports of several occurrences of smoke in the cockpit during flight, due to oxidation in the pitot-true air temperature (TAT) #2 relay caused by water leakage from the storm window located above the relay console. That condition, if not corrected, could result in increased resistance and overheating of the relay and consequent smoke in the cockpit.

Comments

Due consideration has been given to the comments received in response to the original NPRM.

Support for the Original NPRM

The commenters generally support the intent of the original NPRM.

Request to Cite New Service Information

One commenter, the manufacturer, advises that it has revised one of the service bulletins cited in the original NPRM (EMBRAER Service Bulletin 145-30-0032, Change 02, dated December 3, 2001). Change 03, dated January 27, 2003, was issued to add airplanes to the effectivity. The commenter requests that the original NPRM be revised to cite Change 03 as the appropriate source of service information for the inspection, modification, and installation of pitot TAT relays.

The FAA agrees with the request. The Departmento de Aviacao Civil (DAC), which is the airworthiness authority for Brazil, classified Change 03 as mandatory and issued Brazilian airworthiness directive 2001-05-01R2, dated April 22, 2003, to ensure the airworthiness of these airplanes in Brazil. The FAA notes that the only difference between Change 02 and Change 03 is the effectivity; the procedures are the same in both versions of the service bulletin. The applicability and paragraphs (a), (c), and (d) have been revised in this supplemental NPRM to refer to Change 03 of the service bulletin and provide credit for actions done in accordance with Change 02.

Request To Revise Proposed Applicability

As a result of the revised effectivity in Service Bulletin 145-30-0032, Service Bulletins 145-30-0032 and 145-76-0003 have different effectivity listings. This same commenter requests that the applicability of the original NPRM be revised.

The FAA agrees. To adequately address the identified unsafe condition for the affected fleet, the applicability has been revised in this supplemental NPRM to include airplanes identified in EMBRAER Service Bulletin 145-30-0032, Change 03.

Request To Revise Airplanes Affected by Paragraph (b)

This same commenter requests that the airplanes identified in paragraph (b) of the original NPRM be reidentified to cite airplanes listed in EMBRAER Service Bulletin 145-76-0003, dated April 22, 2002.

The FAA agrees. This change will accurately identify the airplanes subject to the proposed module inspection requirement. Paragraph (b) has been revised accordingly in this supplemental NPRM.

Request To Follow Different Service Information

One commenter requests that paragraph (d) of the original NPRM be revised to also consider installation of new protective sheets to the relay supports as acceptable for compliance with that requirement if done in accordance with Part I of EMBRAER Service Bulletin 145-25-0211, Change 06, dated December 26, 2002.

The FAA agrees, finding that the procedures are the same in both references. Paragraph (d) has been revised accordingly in this supplemental NPRM.

Conclusion

Since certain changes described above expand the scope of the original NPRM, the FAA has determined that it is necessary to reopen the comment period to provide additional opportunity for public comment.

Changes to 14 CFR Part 39/Effect on the Supplemental NPRM

On July 10, 2002, the FAA issued a new version of 14 CFR part 39 (67 FR 47997, July 22, 2002), which governs the FAA's AD system. This regulation now includes material that relates to altered products, special flight permits, and alternative methods of compliance. Because we have now included this material in part 39, we no longer need to include it in each individual AD. In this supplemental NPRM, Note 1 and paragraph (f) of the original NPRM have been removed, and paragraph (e) of the original NPRM has been revised to only identify the office authorized to approve AMOCs.

Revised Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 365 airplanes of U.S. registry would be affected by this supplemental NPRM. The FAA provides the following cost estimates to accomplish the proposed actions:

Action | Work hours per airplane | Average hourly labor rate | Parts cost per airplane | Cost per airplane
Inspect the pitot-TAT relay | 1 | $65 |  | $65
Inspect the FADEC resistor modules | 2 | 65 |  | 130
Seal the lateral console panels and install protective sheets | 3 | 65 | 660 | 855

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (EMBRAER): Docket 2002-NM-336-AD.

Applicability: Model EMB-135 and EMB-145 series airplanes, certificated in any category; as listed in EMBRAER Service Bulletin 145-30-0032, Change 03, dated January 27, 2003.

Compliance: Required as indicated, unless accomplished previously.

To detect and correct oxidation of the pitot-true air temperature (TAT) relay, which could result in increased resistance and overheating of the relay and consequent smoke in the cockpit; and to detect and correct oxidation of the full authority digital engine control (FADEC) electronic interface resistor modules, which could result in in-flight uncommanded engine power roll back to idle; accomplish the following:

Inspection and Cleaning of Pitot-TAT Relays

(a) For airplanes identified in paragraph 1.A.(1) (“PART I”) of EMBRAER Service Bulletin 145-30-0032, Change 03, dated January 27, 2003: Within 400 flight hours after the effective date of this AD, perform a detailed inspection to detect contamination of the pitot-TAT relays and clean the relay/connector pins and sockets, in accordance with the Accomplishment Instructions (“PART I”) of the service bulletin. If any contamination remains after cleaning: Prior to further flight, replace each contaminated relay, relay socket, and relay socket contact with a new part, in accordance with the service bulletin. Accomplishment of an inspection and applicable corrective actions is acceptable for compliance with the requirements of this paragraph if done before the effective date of this AD in accordance with EMBRAER Service Bulletin 145-30-0032, Change 02, dated December 3, 2001.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Inspection of FADEC Interface Resistor Modules

(b) For airplanes identified in EMBRAER Service Bulletin 145-76-0003, dated April 22, 2002: Within 400 flight hours after the effective date of this AD, perform a detailed inspection to detect contamination (including moisture and corrosion) of the left- and right-hand FADEC electronic interface resistor modules, in accordance with the Accomplishment Instructions of the service bulletin. Then do the applicable corrective actions specified in paragraphs (b)(1) and (b)(2) of this AD.

(1) If any contamination is found during the inspection: Before further flight, clean the resistor modules and/or their respective electrical connector pins, in accordance with the service bulletin.

(2) If any contamination remains after cleaning the modules and pins as specified in paragraph (b)(1) of this AD: Before further flight, replace the modules and connectors with new parts, as applicable, in accordance with the service bulletin.

(3) Following accomplishment of any corrective action specified in paragraph (b)(1) or (b)(2) of this AD: Before further flight, perform the ohmic resistance test of the left- and right-hand FADEC electronic interface resistor modules, and accomplish applicable troubleshooting procedures, in accordance with the service bulletin.

Console Panel Sealing

(c) For airplanes identified in paragraph 1.A.(2) (“PART II”) of EMBRAER Service Bulletin 145-30-0032, Change 03, dated January 27, 2003: Before further flight following accomplishment of the requirements of paragraph (a) of this AD, modify the seal between the cockpit console panels and the storm window by applying PVC foam adhesive tape and sealant, in accordance with the Accomplishment Instructions (“PART II”) of the service bulletin. Accomplishment of the modification before the effective date of this AD is acceptable for compliance with the requirements of this paragraph if done in accordance with EMBRAER Service Bulletin 145-30-0032, Change 02, dated December 3, 2001.

Protective Sheet Installation

(d) For airplanes identified in paragraph 1.A.(3) (“PART III”) of EMBRAER Service Bulletin 145-30-0032, Change 03, dated January 27, 2003: Before further flight following accomplishment of the requirements of paragraph (b) of this AD, install new protective sheets at the relay supports in accordance with the Accomplishment Instructions (“PART III”) of the service bulletin. Installation of protective sheets before the effective date of this AD is acceptable for compliance with the requirements of this paragraph if done in accordance with Part I of EMBRAER Service Bulletin 145-25-0211, Change 06, dated December 26, 2002, or PART III of EMBRAER Service Bulletin 145-30-0032, Change 02, dated December 3, 2001.

Alternative Methods of Compliance

(e) In accordance with 14 CFR 39.19, the Manager, International Branch, ANM-116, FAA, is authorized to approve alternative methods of compliance for this AD.

Note 2: The subject of this AD is addressed in Brazilian airworthiness directives 2001-05-01R2, dated April 22, 2003; and 2002-10-03, dated October 24, 2002.

Issued in Renton, Washington, on August 29, 2003.

Vi L. Lipski,
Manager, Transport Airplane Directorate, Aircraft Certification Service.

[FR Doc. 03-22706 Filed 9-5-03; 8:45 am]

BILLING CODE 4910-13-P